DEPARTMENT OF THE INTERIOR

National Park Service

National Register of Historic Places; Notification of Pending Nominations and Related Actions

Nominations for the following properties being considered for listing or related actions in the National Register were received by the National Park Service before July 17, 2010. Pursuant to § 60.13 of 36 CFR part 60, written comments are being accepted concerning the significance of the nominated properties under the National Register criteria for evaluation. Comments may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by September 2, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National, Historic Landmarks Program.

CONNECTICUT

Fairfield County

Bruer, Marcel, House II, (Mid-Twentieth-Century Modern Residences in Connecticut 1930-1979, MPS) 122 Sunset Hill Rd, New Canaan, 10000572

Chivvis, Arthur and Lyn, House, (Mid-Twentieth-Century Modern Residences in Connecticut 1930-1979, MPS) 2 Wydendown Rd, New Canaan, 10000564

Durisol House, (Mid-Twentieth-Century Modern Residences in Connecticut 1930-1979, MPS) 3 Marshall Ridge Rd, New Canaan, 10000566

Ford, Elinor and Sherman, House, (Mid-Twentieth-Century Modern Residences in Connecticut 1930-1979, MPS) 55 Talmadge Hill Rd, New Canaan, 10000574

Hall, Isaac Davis and Marion Dalton, House, (Mid-Twentieth-Century Modern Residences in Connecticut 1930-1979, MPS) 25 Lambert Rd, New Canaan, 10000573

Lee, John Black, House I, (Mid-Twentieth-Century Modern Residences in Connecticut 1930-1979, MPS) 729 Laurel Rd, New Canaan, 10000568

Mills, Beaven W., House, (Mid-Twentieth-Century Modern Residences in Connecticut 1930-1979, MPS) 31 Chichester Rd, New Canaan, 10000565

Mills, Willis N, House, (Mid-Twentieth-Century Modern Residences in Connecticut 1930-1979, MPS) 1380 Ponus Ridge Rd, New Canaan, 10000567

Murphy, Charles and Peggy, House, (Mid-Twentieth-Century Modern Residences in Connecticut 1930-1979, MPS) 320 N Wilton Rd, New Canaan, 10000563

Swallen, James, House, (Mid-Twentieth-Century Modern Residences in Connecticut 1930-1979, MPS) 257 Wahackme Rd, New Canaan, 10000570

System House, (Mid-Twentieth-Century Modern Residences in Connecticut 1930-1979, MPS) 128 Winchester Rd, New Canaan, 10000571

Tatum, Corinne and George Liston Jr., House, (Mid-Twentieth-Century Modern Residences in Connecticut 1930-1979, MPS) 431 Valley Rd, New Canaan, 10000569

Hartford County

Melrose, Broad Brooks and Melrose Rds, East Windsor, 10000577

Windham County

Old Westfield Cemetery, 320 N St, Killingly, 10000578

DELAWARE

New Castle County

Owl's Nest Country Place, 201 Owl's Nest Rd, Greenville, 10000597

MARYLAND

Baltimore County

Long Island Farm, 220 Cromwell Bridge Rd, Parkville, 10000586

Frederick County

Crampton's Gap Historic District, (South Mountain Battlefields—September 14, 1862, MPS) Route 17; Gapland Rd; Mt. Church Rd; Brownsville Pass Rd; Townsend Rd, Burkittsville, 10000576

Turner's and Fox's Gaps Historic District, (South Mountain Battlefields—September 14, 1862, MPS) U.S. 40-A and Reno Monument, Daglren, Frostown, Mt. Tabor, and Moser Rds, Middletown, 10000575

MINNESOTA

Big Stone County

St. Pauli Norwegian Evangelical Lutheran Church, 33022 U.S. HWY 75, Almond Township, 10000581

Dakota County

Waterford Bridge, (Iron and Steel Bridges in Minnesota MPS) Canada Ave over Cannon River, Minnesota, 10000580

MISSOURI

St. Louis Independent city

S. Pfeiffer Manufacturing Company Headquarters, 3965 Laclede, St. Louis, 10000598

MONTANA

Cascade County

Great Falls West Bank Historic District, 300 and 400 Blocks, 3rd St NW, Great Falls, 10000587

NEBRASKA

Dodge County

Scribner Town Hall, W terminus of Howard St at 3rd St, Scribner, 10000608

Douglas County

Apartments at 2514 North 16th Street, (Apartments, Flats and Tenements in Omaha, Nebraska from 1880-1962) 2514 N 16th St, Omaha, 10000607

Sheridan County

District #119 North School, (School Buildings in Nebraska MPS) S side of Sandy Ave, Ellsworth, 10000606

NEW YORK

Albany County

Presbyterian Church in New Scotland and the New Scotland Cemetery, 2010 New Scotland Rd and 478 New Scotland Rd S., New Scotland, 10000592

Chenango County

Rockwells Mills Historic District, NY 8, Crandall Rd, Chenango, 10000610

Delaware County

Seeley, Erskine L., House, 46 Main St, Stamford, 10000593

Dutchess County

Second Baptist Church of Dover, 29 Mill St, Dover Plains, 10000589

Greene County

Moore-Howland Estate, 4 NY 385, Catskill, 10000609

Torry—Chittendon Farmhouse, 4268 CR 20, Durham, 10000612

Montgomery County

Caspar Getman Farmstead, 1311 Stone Arabia Rd, Stone Arabia, 10000594

New York County

Park Avenue Historic District, 900-1240 and 903-1235 Park Ave,New York, 10000588

Niagara County

Morse Cobblestone Farmhouse, (Cobblestone Architecture of New York State MPS) 2773 Maple Rd, Wilson, 10000591

Onondaga County

Onondaga Highlands—Swaneola Heights Historic District, Bellevue, Onondaga, Summit, Stolp, Ruskin, Clairmonte Aves, Beverly Rd, Syracuse, 10000590

Suffolk County

Saint Ann's Episcopal Church, (Isaac Henry Green, Jr. Suffolk and Nassau Counties, New York MPS) 257 Middle Rd, Sayville, 10000611

Tompkins County

Bates, Rufus and Flora, House, 107 Giles St, Ithaca, 10000595

NORTH CAROLINA

Buncombe County

Blake House, 150 Royal Pines Dr, Arden, 10000600

Johnston County

Downtown Selma Historic District, Includes portions of both sides of N and S Raiford, E & W Anderson, E and W Waddell, and E and W Railroad Sts, and W Web, Selma, 10000601

Martin County

Roberson—Everett-Roebuck House, 105 S Outterbridge St, Robersonville, 10000602

Mecklenburg County

Grier-Rea House, (Rural Mecklenburg County MPS) 6701 Providence Rd, Charlotte, 10000603

Polk County

Lynncote, 3318 Lynn Rd, Tryon, 10000604

NORTH DAKOTA

Grand Forks County

R.S. Blome Granitoid Pavement in Grand Forks Boundary Increase, Lewis Blvd between Conklin and Fenton Ave, Lewis Blvd between Fenton Ave and Seward Ave; Woodland Ave between S 4th and Grand Forks, 10000605

OREGON

Multnomah County

Arlington Club, (Downtown Portland, Oregon MPS) 811 SW Salmon St, Portland, 10000599

VIRGINIA

Hampton Independent city

Chapel of the Centurion, 134 Bernard Rd, Fort Monroe, 10000582

Quarters 1,151 Bernard Rd, Fort Monroe, 10000583

Quarters 17, 41A, 41B, 47A, 47B Bernard Rd, Fort Monroe, 10000584

Richmond Independent city

Crenshaw House, 919 W Franklin St, Richmond, 10000585

WEST VIRGINIA

Tucker County

Tucker County Bank Building, 1000 Walnut St, Parsons, 10000579

[FR Doc. 2010-20348 Filed 8-17-10; 8:45 am]

BILLING CODE P